DEPARTMENT OF COMMERCE

National Oceanic and Atmospheric Administration

[RTID 0648-XE676]

North Pacific Fishery Management Council; Public Meeting

AGENCY: National Marine Fisheries Service (NMFS), National Oceanic and Atmospheric Administration (NOAA), Commerce.

ACTION: Notice of web conference.

SUMMARY: The North Pacific Fishery Management Council (Council) webinar to support public engagement and provide information related to the Council's upcoming discussion of the Programmatic Evaluation will meet on March 6, 2025.

DATES: The meeting will be held on Thursday, March 6, 2025, from 12 p.m. to 1 p.m., Alaska Time.

ADDRESSES: The meetings will be web conferences. Join online through the link at https://meetings.npfmc.org/Meeting/Details/3077.

Council address: North Pacific Fishery Management Council, 1007 W 3rd Ave., Suite 400, Anchorage, AK 99501-2252; telephone: (907) 271-2809. Instructions for attending the meeting are given under SUPPLEMENTARY INFORMATION, below.

FOR FURTHER INFORMATION CONTACT: Katie Latanich, Council staff; email: katie.latanich@noaa.gov. For technical support, please contact our administrative staff; email: npfmc.admin@noaa.gov or phone: (907) 271-2809.

SUPPLEMENTARY INFORMATION: The Programmatic Evaluation initiated by the Council in June 2023 will revisit the management policies, goals, and objectives for all of the Council's federally managed fisheries in the Bering Sea, Aleutian Islands, and Gulf of Alaska. Through this process, the Council will consider whether and how its management approach should be updated and revised in consideration of current environmental variability and the ability of the management framework to respond to such change. The Council will next discuss the Programmatic Evaluation at its April 2025 meeting, March 31-April 7, 2025, in Anchorage, AK. More information on upcoming meetings is available at https://www.npfmc.org/current-or-next-council-meeting/. Meeting materials related to this agenda item will be posted to the Council's eAgenda in advance of the meeting.

This webinar is intended as an additional resource to help interested members of the public understand the materials related to the Programmatic Evaluation which were prepared by staff. The Programmatic Evaluation will be an agenda topic at the upcoming April Council meeting with opportunities for public input. The webinar will include an orientation to the Programmatic Evaluation discussion materials, and time for clarifying questions. This webinar will be recorded and available on the Council's website.

Connection Information

You can attend the meeting online using a computer, tablet, or smart phone; or by phone only. Connection information will be posted online at: https://meetings.npfmc.org/Meeting/Details/3077.

Public Comment

Public comment letters will be accepted and should be submitted electronically to https://meetings.npfmc.org/Meeting/Details/3077.

Authority: 16 U.S.C. 1801 et seq.

Dated: February 13, 2025.
Alyssa Weigers,
Acting Deputy Director, Office of Sustainable Fisheries, National Marine Fisheries Service.

[FR Doc. 2025-02802 Filed 2-18-25; 8:45 am]

BILLING CODE 3510-22-P